DEPARTMENT OF HEALTH AND HUMAN SERVICES

Administration for Children and Families

Proposed Information Collection Activity; Community-Based Child Abuse Prevention Program (Office of Management and Budget #: 0970-0155)

AGENCY: Children's Bureau, Administration on Children, Youth and Families, Administration for Children and Families, U.S. Department of Health and Human Services.

ACTION: Request for public comments.

SUMMARY: The Children's Bureau, Administration for Children and Families (ACF), U.S. Department of Health and Human Services (HHS), is requesting a three-year extension of the Program Instruction (PI) for the Community-Based Child Abuse Prevention (CBCAP) program (Office of Management and Budget #:0970-0155, expiration June 30, 2024), which outlines information collection requirements pursuant to receiving a grant award. There are no changes requested to the information collection process.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: The PI, prepared in response to the enactment of the CBCAP program, as set forth in title II of the Child Abuse Prevention and Treatment Reauthorization Act of 2010 (Pub. L. 111-320) or CAPTA, provides direction to the states and territories to accomplish the purposes of (1) supporting community-based efforts to develop, operate, expand, and where appropriate to network, initiatives aimed at the prevention of child abuse and neglect, and to support networks of coordinated resources and activities to better strengthen and support families to reduce the likelihood of child abuse and neglect and (2) fostering an understanding, appreciation, and knowledge of diverse populations in order to be effective in preventing and treating child abuse and neglect. This PI contains information collection requirements that are found in CAPTA and pursuant to receiving a grant award. The information submitted will be used by the agency to ensure compliance with the statute, complete the calculation of the grant award entitlement, and provide training and technical assistance to the grantee.

Respondents: State governments, quasi-public entities, and non-profit private agencies.

Annual Burden Estimates
Instrument | Total number of respondents | Annual number of responses per respondent | Average burden hours per response | Annual burden hours
Application | 52 | 1 | 40 | 2,080
Annual Report | 52 | 1 | 24 | 1,248
Totals |  |  |  | 3,328

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The CAPTA Reauthorization Act of 2010; title II of the CAPTA, Public Law 115-271 (42 U.S.C. 5116 et seq.).

Mary B. Jones,
ACF/OPRE Certifying Officer.

[FR Doc. 2023-25164 Filed 11-14-23; 8:45 am]

BILLING CODE 4184-01-P